DEPARTMENT OF THE INTERIOR

Bureau of Land Management

[LLES003420.L14300000.EU0000; WIES-055403]

Notice of Realty Action: Modified Competitive Sale of Public Land in Bayfield County, WI

AGENCY: Bureau of Land Management, Interior.

ACTION: Notice of realty action.

SUMMARY: A parcel of public land totaling 92.26 acres in Bayfield County, Wisconsin, is being considered for sale under the provisions of the Federal Land Policy and Management Act of 1976 (FLPMA) at no less than the appraised fair market value. The Bureau of Land Management (BLM) proposes to sell the land using modified competitive sale procedures pursuant to 43 CFR 2711.3-2.

DATES: Interested parties may submit written comments regarding the proposed sale to the BLM at the address listed below on or before December 4, 2009. The BLM will accept sealed bids for the offered land from qualified bidders no later than 4:30 p.m. CDT on December 21, 2009.

ADDRESSES: Comments concerning the proposed sale should be addressed to Mark Storzer, Field Manager, Bureau of Land Management, Milwaukee Field Office, 626 East Wisconsin Avenue, Suite 200, Milwaukee, Wisconsin 53202-4617.

FOR FURTHER INFORMATION CONTACT: Carol Grundman, Realty Specialist, (414) 297-4447, or via e-mail at carol_grundman@blm.gov. More detailed information concerning the sale including maps and the current appraisal will be available at: http://www.blm.gov/es/st/en/fo/milwaukeefo_html.html.

SUPPLEMENTARY INFORMATION: The following described public land has been examined and found suitable for sale under the provisions of Section 203 of the FLPMA (43 U.S.C. 1713) and implementing regulations at 43 CFR part 2711:

Fourth Principal Meridian

T. 45 N., R. 6 W.,

Sec. 33, lots 8 to 12, inclusive.

The area described contains 92.26 acres in Bayfield County.

The BLM Wisconsin Resource Management Plan Amendment dated 2001 identified this parcel of land as suitable for disposal. The purpose of the sale is to dispose of land which is difficult and uneconomic to manage as part of the National System of Public Lands. Because the parcel has no legal access via a public road, the sale will be offered first by modified competitive sale procedures in accordance with 43 CFR 2711.3-2 to allow adjacent landowners an equal opportunity to successfully bid on the property. Bidding under the modified competitive sale procedures is only open to adjacent landowners who must submit sealed bids to the BLM, Milwaukee Field Office (address stated above), no later than 4:30 p.m. CDT, on December 21, 2009.

If the adjacent landowners fail to exercise the preference consideration offered by the modified competitive sale, the parcel will remain available for sale on a continuing basis in accordance with competitive sale procedures found at 43 CFR 2711.3-1 without further legal notice. If the modified competitive sale held on December 21, 2009 is not successful, then bids will continue to be accepted by the BLM under competitive sale procedures. Bids submitted to the BLM under competitive sale procedures will be opened on a monthly basis on the first Friday of each month at 10 a.m. CDT, at the BLM, Milwaukee Field Office, until a successful bid is received or the offer is cancelled.

Sealed bid envelopes must be clearly marked on the front lower left-hand corner with “SEALED BID BLM LAND SALE WI, WIES-055403”. The bid envelope must contain a signed statement showing the total amount of the bid and the name, mailing address, and phone number of the entity making the bid. Bids must be for not less than the federally appraised fair market value determination of the land. The appraised fair market value will be made available 30 days prior to the sealed bid closing date at the BLM, Milwaukee Field Office, and on the Web site (address and Web site stated above). Each sealed bid must be accompanied by a certified check, money order, bank draft, or cashier's check made payable to the Bureau of Land Management for an amount not less than 20 percent of the total amount of the bid. Personal checks will not be accepted.

Sealed bids will be opened to determine the high bid at 10 a.m. CDT, December 21, 2009, at the BLM, Milwaukee Field Office (address stated above). The highest qualifying bid will be declared the high bid and the high bidder will receive written notice. Bidders submitting matching high bid amounts for the parcel will be provided an opportunity to submit a supplemental sealed bid. Bid deposits submitted by unsuccessful bidders will be returned by U.S. mail.

The successful bidder will be allowed 180 days from the date of sale to submit the remainder of the full bid price in the form of a certified check, money order, bank draft, or cashier's check made payable to the Bureau of Land Management. Personal checks will not be accepted. Failure to submit the remainder of the full bid price prior to but not including the 180th day following the day of the sale, will result in the forfeiture of the bid deposit to the BLM, and the parcel will be offered to the second highest qualifying bidder at their original bid.

Federal law requires that bidders must be (1) United States citizens 18 years of age or older, (2) a corporation subject to the laws of any State or of the United States, (3) an entity including, but not limited to associations or partnerships capable of acquiring and owning real property, or interests therein, under the laws of the State of Wisconsin, or (4) a State, State instrumentality, or political subdivision authorized to hold real property. Certifications and evidence to this effect will be required of the purchaser prior to issuance of a patent.

The Federal mineral interests underlying this parcel have no known mineral value and will be conveyed with the sale of the parcel. A sealed bid for the above described parcel constitutes an application for conveyance of those mineral interests. In addition to the full purchase price, a successful bidder must pay a separate nonrefundable filing fee of $50 for the mineral interests to be conveyed simultaneously with the sale of the land.

Publication of this Notice in the Federal Register segregates the subject land from appropriation under the pubic land laws, except sale under the provisions of the FLPMA. The segregation will terminate upon issuance of patent, upon publication in the Federal Register of a termination of the segregation, or on October 20, 2011, unless extended by the BLM State Director in accordance with 43 CFR 2711.1-2(d) prior to the termination date.

The terms and conditions applicable to this sale are as follows:

1. The parcel is subject to valid existing rights.

2. To the extent required by law, this parcel is subject to the requirements of Section 120(h) of the Comprehensive Environmental Response Compensation and Liability Act, as amended (CERCLA) (42 U.S.C. 9620(h)).

3. An appropriate indemnification clause protecting the United States from claims arising out of the lessee's/patentee's use, occupancy, or occupations on the leased/patented lands.

4. No warranty of any kind, expressed or implied, is given by the United States as to the title, physical condition or potential uses of the land proposed for sale, and the conveyance will not be on a contingency basis. It is the buyer's responsibility to be aware of all applicable local government policies and regulations that may affect the subject land or its future uses. It is also the buyer's responsibility to be aware of existing or prospective uses of nearby properties. Any land lacking access from a public road or highway will be conveyed as such, and future access acquisition will be the responsibility of the buyer.

Public Comments: Interested parties and the general public may submit written comments concerning the land being considered for sale, including notification of any encumbrances or other claims relating to the identified land, to the Field Manager, BLM Milwaukee Field Office, at the above address on or before December 4, 2009. Comments transmitted via e-mail or facsimile will not be considered. Before including your address, phone number, e-mail address, or other personal identifying information in your comment, you should be aware that your entire comment—including your personal identifying information—may be made publicly available at any time. While you can ask us in your comment to withhold your personal identifying information from public review, we cannot guarantee that we will be able to do so. The BLM will make available for public review, in their entirety, all comments submitted by businesses or organizations, including comments by an individual in their capacity as an official or representative of a business or organization. Comments will be available for public review at the BLM Milwaukee Field Office during regular business hours, except holidays.

Any adverse comments will be reviewed by the State Director, who may sustain, vacate, or modify this realty action. In the absence of timely filed objections, this realty action will become the final determination of the Department of the Interior.

Authority: 43 CFR part 2711.

Steven Wells,
Deputy State Director, Division of Natural Resources.

[FR Doc. E9-24567 Filed 10-19-09; 8:45 am]

BILLING CODE 4310-GJ-P